INTERNATIONAL TRADE COMMISSION

[Investigation Nos. 701-TA-622 and 731-TA-1448 (Final)]

Dried Tart Cherries From Turkey; Determinations

On the basis of the record ¹ developed in the subject investigations, the United States International Trade Commission (“Commission”) determines, pursuant to the Tariff Act of 1930 (“the Act”), that an industry in the United States is not materially injured or threatened with material injury by reason of imports of dried tart cherries from Turkey, provided for in subheading 0813.40.30 of the Harmonized Tariff Schedule of the United States, that have been found by the U.S. Department of Commerce (“Commerce”) to be sold in the United States at less than fair value (“LTFV”), and to be subsidized by the government of Turkey.

¹ The record is defined in sec. 207.2(f) of the Commission's Rules of Practice and Procedure (19 CFR 207.2(f)).

Background

The Commission instituted these investigations effective April 23, 2019, following receipt of petitions filed with the Commission and Commerce by the Dried Tart Cherry Trade Committee.² The final phase of the investigations was scheduled by the Commission following notification of preliminary determinations by Commerce that imports of dried tart cherries from Turkey were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on October 4, 2019 (84 FR 53175). The hearing was held in Washington, DC, on December 3, 2019, and all persons who requested the opportunity were permitted to appear in person or by counsel.

² The Dried Tart Cherry Trade Committee consists of Cherry Central Cooperative; Graceland Fruit, Inc.; Payson Fruit Growers Coop; Shoreline Fruit, LLC; and Smeltzer Orchard, Co.

The Commission made these determinations pursuant to sections 705(b) and 735(b) of the Act (19 U.S.C. 1671d(b) and 19 U.S.C. 1673d(b)). It completed and filed its determinations in these investigations on January 27, 2020. The views of the Commission are contained in USITC Publication 5014 (January 2020), entitled Dried Tart Cherries from Turkey: Investigation Nos. 701-TA-622 and 731-TA-1448 (Final).

By order of the Commission.
Issued: January 28, 2020.
Lisa Barton,
Secretary to the Commission.

[FR Doc. 2020-01822 Filed 1-30-20; 8:45 am]

BILLING CODE 7020-02-P